DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 27, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Housing Service

Title: Form RD 410-8, Application Reference Letter (A Request for Credit Reference).

OMB Control Number: 0575-0091.

Summary of Collection: The Rural Housing Service (RHS), under section 502 of Title V of the Housing Act of 1949, as amended, provides financial assistance to construct, improve, alter, repair, replace, or rehabilitate dwellings, which will provide modest, decent, safe, and sanitary housing to eligible individuals in rural areas. To receive a loan or grant, applicants must provide the Agency with a standard housing application (used by government and private lenders), and provide documentation, including their credit history, to support the same.

Need and Use of the Information: Form RD 410-8, “Applicant Reference Letter” is used by the Agency to obtain information about an applicant's credit history that does not appear on a credit report. The form can be used to document the applicant's ability to handle credit effectively in cases where an applicant has used nontraditional sources of credit which do not appear on a credit report. It also provides a mechanism for verifying repayment history for debts reported by the applicant on the loan application that do not appear on the credit report. This form asks only for specific, relevant information to determine the applicant's creditworthiness and to establish the applicant's history of prompt payments on debts. This information enables RHS to make better creditworthiness decisions.

Description of Respondents: Individuals or Households.

Number of Respondents: 1.

Frequency of Responses: Reporting: On occasion.

Total Burden Hours: 1.

Rural Housing Service

Title: 7CFR 1956-C, Debt Settlement—Community and Business Programs.

OMB Control Number: 0575-0124.

Summary of Collection: The Community Facilities loan program of RHS is authorized by Section 306 of the Consolidated Farm and Rural Development Act (7 U.S.C. 1926). The purpose of the Community Facilities loan program is to make loans to public entities, nonprofit corporations, and Indian tribes for the development of essential community facilities for public use in rural areas.

The Business and Industry program is authorized by Section 310 B 7 (U.S.C. 1932) (Pub. L. 92-419, August 30, 1972) of the Consolidated Farm and Rural Development Act to improve, develop, or finance business, industry, and employment and improve the economic and environmental climate in rural communities.

Need and Use of the Information: The information collected is similar to that required by a commercial lender in similar circumstances. Information will be collected by the field offices from borrowers, consultants, lenders, and attorneys. Failure to collect information could result in improper servicing of these loans.

Description of Respondents: Not for profit institutions; Business or other for-profit; State, Local or Tribal Government.

Number of Respondents: 97.

Frequency of Responses: Reporting: On occasion.

Total Burden Hours: 1,265.

Levi S. Harrell,
Departmental Information Collection Clearance Officer.

[FR Doc. 2022-20885 Filed 9-26-22; 8:45 am]

BILLING CODE 3410-XV-P